FEDERAL ELECTION COMMISSION

Sunshine Act Meeting

Previously Scheduled Date and Time: Thursday, April 20, 2006 at 10 a.m.

Place: 999 E Street, NW.; Washington, DC (Ninth Floor).

Status: This meeting will be open to the public.

The following item was added to the agenda: Final Audit Report on CWA COPE Political Contributions Committee.

For further information contact: Mr. Robert Biersack, Press Officer, Telephone: (202) 694-1220.

Mary W. Dove,
Secretary of the Commission.

[FR Doc. 06-3807 Filed 4-18-06; 11:52 am]

BILLING CODE 6715-01-M